DEPARTMENT OF COMMERCE

National Oceanic and Atmospheric Administration

50 CFR Part 648

[Docket No. 250414-0067; RTID 0648-XE684]

Fisheries of the Northeastern United States; Northeast Skate Complex; 2025 Specifications

AGENCY: National Marine Fisheries Service (NMFS), National Oceanic and Atmospheric Administration (NOAA), Commerce.

ACTION: Final rule.

SUMMARY: NMFS is finalizing specifications for the 2025 Northeast skate fishery. This action is necessary to implement previously projected 2025 allowable harvest levels for the skate fishery that prevent overfishing while enabling optimum yield.

DATES: Effective May 1, 2025.

FOR FURTHER INFORMATION CONTACT: Caroline Potter, Fishery Resource Management Specialist, (978) 281-9325.

SUPPLEMENTARY INFORMATION: The Council manages a complex of seven skate species (i.e., barndoor, clearnose, little, rosette, smooth, thorny, and winter) off the New England and mid-Atlantic coasts through the Northeast Skate Complex Fishery Management Plan (FMP). Skates are harvested and managed through two different targeted fisheries: (1) food (i.e., the wing fishery); and (2) bait in other fisheries (i.e., the bait fishery). The Northeast Skate Complex FMP requires that annual catch and possession limits for the skate fishery be reviewed annually and specified through the specifications process for up to two fishing years at a time, with the second year subject to review and change during the specifications process. Framework Adjustment 12 to the Northeast Skate Complex FMP (Framework 12) (89 FR 58076, July 17, 2024) set management measures and specifications for the skate fishery for the 2024 fishing year and projected specifications for the 2025 fishing year. Two comments were received on the proposed rule for Framework 12 (89 FR 45621, May 23, 2024). The comments were addressed in the final rule (89 FR 58076, July 17, 2024), in which we stated that no changes to the proposed rule's specifications were necessary as a result of the comments. Subsequent to publication of the final rule, the Council considered the 2025 projected specifications, the 2024 Skate Annual Monitoring Report, and other skate fishery status and performance information, at its meeting on September 24, 2024. The Council did not recommend any changes to the 2025 projected specifications. This action implements the projected skate specifications for the 2025 fishing year.

Table 1 summarizes the 2024 and 2025 specifications. No changes have been made from what was projected in the final rule for Framework 12 (89 FR 58076, July 17, 2024).

Table 1—2024 and 2025 Skate Fishery Specifications, in Metric Tons
Acceptable Biological Catch and Annual Catch Limit (ACL) | 32,155
Annual Catch Target (90% of ACL) | 28,940
Overall Fishery Total Allowable Landings (TAL) | 15,718
Wing TAL (66.5% of Overall TAL) | 10,453
Wing Season 1 TAL (57% of Wing TAL) | 5,958
Wing Season 2 TAL (43% of Wing TAL) | 4,495
Bait TAL (33.5% of Overall TAL) | 5,266
Bait Season 1 TAL (30.8% of Bait TAL) | 1,622
Bait Season 2 TAL (37.1% of Bait TAL) | 1,954
Bait Season 3 TAL (32.1% of Bait TAL) | 1,690

Classification

NMFS is issuing this rule pursuant to 305(d) of the Magnuson-Stevens Fishery Conservation and Management Act, which authorizes the Secretary to implement management measures necessary to carry out an approved fishery management plan. Skate specifications are implemented pursuant to the regulations at 50 CFR 648.320(a)(7). The NMFS Assistant Administrator has determined that this final rule is consistent with the Northeast Skate Complex FMP, Framework 12, and other applicable law.

This final rule is exempt from review under Executive Order 12866, and is not regulatory under Executive Order 14192.

Pursuant to 5 U.S.C. 553(b)(B), NMFS finds good cause to waive prior public notice and opportunity for public comment on this action, because allowing time for notice and comment would be unnecessary and contrary to the public interest. The proposed rule for Framework 12 provided the public with the opportunity to comment on the 2024 and projected 2025 specifications (89 FR 45621, May 23, 2024). NMFS received two comments on the proposed rule, which were addressed in the final rule (89 FR 58076, July 17, 2024), and determined that no changes to the final rule were necessary as a result of the comments. Through both proposed and final rulemaking for Framework 12, NMFS alerted the public that a review of the projected 2025 specifications would be conducted and that NMFS would either confirm the specifications as projected or publish a proposed rule for any necessary changes prior to the May 1st start of the 2025 fishing year. In addition, the Council reviewed the 2025 projected specifications along with the 2024 Annual Skate Monitoring Report at its public meeting on September 24, 2024, which included an additional opportunity for public comment. The Council did not recommend any changes to the projected specifications. The opportunity for and consideration of public comments in the proposed and final rulemaking process for implementing Framework 12, combined with the opportunity for public comment during the Council's review of more recent data from the 2024 Annual Skate Monitoring Report in its September 24, 2024, public meeting, have already provided the public with multiple opportunities to comment on the 2025 specifications. Providing additional notice and comment on the 2025 specifications at this point would be unnecessary. In addition, doing so even though the 2025 specifications are unchanged from the 2024 specifications could cause confusion, and therefore would be contrary to the public interest.

Pursuant to 5 U.S.C. 553(d)(3), NMFS finds that there is good cause to waive the 30-day delay in the date of effectiveness for this action. The 2025 fishing year begins on May 1, 2025, and the 2025 specifications are the same as the 2024 specifications. Requiring a 30-day delay before this final rule becomes effective does not provide any benefit to the regulated parties, as no additional time is required to come into compliance with this final rule. Unlike actions that require an adjustment period, skate fishing vessels will not need to purchase new equipment or otherwise expend time or money to comply with these management measures, because compliance simply means adhering to the same catch limits and possession limits as those for the 2024 fishing year. These specifications should be effective by the start of the skate fishing year on May 1, 2025. If this final rule is delayed for a short period, the prior year's specifications would roll over to allow continued operation of the fishery until the 2025 specifications are implemented. However, having the 2025 specifications in place by the start of the fishing season and preventing a rollover could reduce potential confusion about the 2025 specifications.

The Chief Counsel for Regulation, Department of Commerce, previously certified to the Chief Counsel for Advocacy of the Small Business Administration (SBA) that Framework 12, which set specifications for 2024 and projected specifications for 2025, would not have a significant economic impact on a substantial number of small entities. Implementing the 2025 specifications will not change the conclusions drawn in that previous certification to the SBA. No comments were received regarding this prior certification. As a result, no new regulatory flexibility analysis is required and none has been prepared.

This action does not contain a collection of information requirement for purposes of the Paperwork Reduction Act of 1995 (44 U.S.C. 3501 et seq.).

Authority: 16 U.S.C. 1801 et seq.

Dated: April 15, 2025.
Samuel D. Rauch III,
Deputy Assistant Administrator for Regulatory Programs, National Marine Fisheries Service.

[FR Doc. 2025-06713 Filed 4-17-25; 8:45 am]

BILLING CODE 3510-22-P